DEPARTMENT OF THE INTERIOR

Agenda for the September 20, 2000 Public Meeting of the Advisory Commission for the San Francisco Maritime National Historical Park

Public Meeting—Firehouse, Lower Fort Mason—10 am—12:15 pm

10 am—Welcome—Neil Chaitin, Chairman, Opening Remarks—Neil Chaitin, Chairman, Approval of Minutes from Previous Meeting

10:15 am—Report of the Superintendent, William Thomas, Superintendent

10:30 am—Presidio Relocation, Wayne Boykin, Ships Manager

10:45 am—SS WAPAMA Status, Michael Bell, Project Officer

11 am—Haslett Warehouse, Marc Hayman

11:30 am—Public Comments and Questions

11:45 pm—Election of Officers

12 pm—Agenda items/Date for next meeting

William G. Thomas,
Superintendent.

[FR Doc. 00-22401 Filed 8-31-00; 8:45 am]

BILLING CODE 4310-70-P